DEPARTMENT OF TRANSPORTATION

Federal Aviation Administration

14 CFR Part 39

[Docket No. FAA-2012-1067; Directorate Identifier 2011-NM-231-AD; Amendment 39-17444; AD 2013-09-03]

RIN 2120-AA64

Airworthiness Directives; Dassault Aviation Airplanes

AGENCY: Federal Aviation Administration (FAA), Department of Transportation (DOT).

ACTION: Final rule.

SUMMARY: We are adopting a new airworthiness directive (AD) for certain DASSAULT AVIATION Model FALCON 2000, FALCON 2000EX, MYSTERE-FALCON 900, and FALCON 900EX airplanes; and all Model MYSTERE-FALCON 50 airplanes. This AD was prompted by reports that collapse of the main landing gear (MLG) could cause wing tank structure failure, which could result in fuel spillage and consequent fire hazard. This AD requires modification of the wing fuel tanks in the area of the wheel well. We are issuing this AD to prevent fuel spillage in the event of a MLG collapse, and consequent fire hazard.

DATES: This AD becomes effective August 14, 2013.

The Director of the Federal Register approved the incorporation by reference of certain publications listed in this AD as of August 14, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Discussion

We issued a notice of proposed rulemaking (NPRM) to amend 14 CFR part 39 to include an AD that would apply to the specified products. That NPRM was published in the Federal Register on October 10, 2012 (77 FR 61539). That NPRM proposed to correct an unsafe condition for the specified products. The Mandatory Continuing Airworthiness Information (MCAI) states:

In service experience has shown that, in case of main landing gear collapse due to overloads during take off or landing (e.g., during high-speed runway excursions), the wing tank structure can fail, leading to fuel spillage. . . .

This condition, if not corrected, could result, in case of main landing gear collapse, in a fuel spillage which may constitute a fire hazard.

To address this unsafe condition, Dassault Aviation have developed a structural modification of the wing fuel tanks in the area of the wheel well which introduces a dry bay by adding a sealed boundary in front of the rear spar between ribs 4 and 5.

For the reasons described above, this [European Aviation Safety Agency (EASA)] AD [2011-0193, dated October 5, 2011] requires accomplishment of the above-mentioned modification for the Right Hand (RH) and Left Hand (LH) wing fuel tanks.

You may obtain further information by examining the MCAI in the AD docket.

Comments

We gave the public the opportunity to participate in developing this AD. We considered the comments received.

Request for Updated Service Information

Dassault Aviation requested that we revise the NPRM (77 FR 61539, October 10, 2012) to reference Dassault Mandatory Service Bulletin F900-388, Revision 3, dated October 19, 2011. (We referred to Dassault Mandatory Service Bulletin F900-388, Revision 2, dated March 10, 2010, as the appropriate source of service information for certain airplanes for accomplishing the modification specified in paragraph (g) of the NPRM.)

We agree. Dassault Mandatory Service Bulletin F900-388, Revision 3, dated October 19, 2011, clarifies the placard instructions for certain airplanes. We have updated the reference in paragraph (g)(3) of this AD to Dassault Mandatory Service Bulletin F900-388, Revision 3, dated October 19, 2011. We have also added paragraph (h)(3)(iii) to this AD to allow credit for actions done before the effective date of this AD using Dassault Mandatory Service Bulletin F900-388, Revision 2, dated March 10, 2010.

Request for Clarification of Credit Service Bulletin

Tidewater Inc. stated it has already complied with Dassault Mandatory Service Bulletin F2000EX-171, dated July 6, 2009, and requested we take that into consideration. The commenter noted that Dassault Mandatory Service Bulletin F2000EX-171, Revision 3, dated March 10, 2010, states that Dassault Mandatory Service Bulletin F2000EX-171, Revision 1, dated October 22, 2009; Revision 2, dated February 15, 2010; and Revision 3, dated March 10, 2010; are not applicable to aircraft already modified as specified in the original service bulletin.

We agree to clarify. Dassault Mandatory Service Bulletin F2000EX-171, Revision 3, dated March 10, 2010, does specifically state that Revision 3 is “not applicable to aircraft already changed per the original issue or revision 1 or revision 2.” Also, as proposed in the NPRM (77 FR 61539, October 10, 2012), paragraph (h) of this AD states that credit is allowed for actions done before the effective date of this AD using certain service information, including Dassault Mandatory Service Bulletin F2000EX-171, dated July 6, 2009; Revision 1, dated October 22, 2009; and Revision 2, dated February 15, 2010; as specified in paragraph (h)(5) of this AD. No change has been made to the AD in this regard.

Conclusion

We reviewed the available data, including the comments received, and determined that air safety and the public interest require adopting the AD with the changes described previously and minor editorial changes. We have determined that these changes:

• Are consistent with the intent that was proposed in the NPRM (77 FR 61539, October 10, 2012) for correcting the unsafe condition; and

• Do not add any additional burden upon the public than was already proposed in the NPRM (77 FR 61539, October 10, 2012).

Costs of Compliance

We estimate that this AD will affect 753 products of U.S. registry. We also estimate that it will take about 640 work-hours per product to comply with the basic requirements of this AD. The average labor rate is $85 per work-hour. Required parts will cost about $18,500 per product. Where the service information lists required parts costs that are covered under warranty, we have assumed that there will be no charge for these parts. As we do not control warranty coverage for affected parties, some parties may incur costs higher than estimated here. Based on these figures, we estimate the cost of this AD to the U.S. operators to be $54,893,700, or $72,900 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 61539, October 10, 2012), the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-09-03 Dassault Aviation: Amendment 39-17444. Docket No. FAA-2012-1067; Directorate Identifier 2011-NM-231-AD.

(a) Effective Date

This airworthiness directive (AD) becomes effective August 14, 2013.

(b) Affected ADs

None.

(c) Applicability

This AD applies to the airplanes specified in paragraphs (c)(1), (c)(2), and (c)(3) of this AD, certificated in any category.

(1) Dassault Aviation Model FALCON 2000 and FALCON 2000EX airplanes, all serial numbers, except those on which modification M3072 has been installed.

(2) DASSAULT AVIATION Model MYSTERE-FALCON 50 airplanes, all serial numbers.

(3) DASSAULT AVIATION Model MYSTERE-FALCON 900 and FALCON 900EX airplanes, all serial numbers, except those on which modification M5413 has been installed.

(d) Subject

Air Transport Association (ATA) of America Code 57, Wings.

(e) Reason

This AD was prompted by reports that collapse of the main landing gear (MLG) could cause wing tank structure failure, which could result in fuel spillage and a consequent fire hazard. We are issuing this AD to prevent fuel spillage in the event of a MLG collapse, and consequent fire hazard.

(f) Compliance

You are responsible for having the actions required by this AD performed within the compliance times specified, unless the actions have already been done.

(g) Modification

Within 150 months after the effective date of this AD, do the modification of the right-hand and left-hand wing fuel tanks, in accordance with the Accomplishment Instructions of the applicable service information specified in paragraph (g)(1), (g)(2), (g)(3), (g)(4), or (g)(5) of this AD, as applicable. The service information specified in paragraphs (g)(1) through (g)(5) of this AD contains a paragraph which states that each person applying the service bulletins must have successfully completed a training program. This training is recommended, but is not required by this AD.

(1) For Model MYSTERE-FALCON 50 airplanes: Dassault Mandatory Service Bulletin F50-496, Revision 2, dated March 10, 2010, which includes the following appendices:

(i) Appendix 1, Revision 2, dated February 15, 2010;

(ii) Appendix 2, Revision 3, dated February 15, 2009;

(iii) Appendix 3, Revision 2, dated October 21, 2009;

(iv) Appendix 4, Revision 1, dated October 20, 2009; and

(v) Appendix 5, Revision 3, dated February 15, 2010.

(2) For Model FALCON 900EX airplanes: Dassault Mandatory Service Bulletin F900EX-329, Revision 3, dated March 10, 2010, which includes the following appendices:

(i) Appendix 1, Revision 2, dated February 15, 2010;

(ii) Appendix 2, Revision 3, dated February 15, 2009;

(iii) Appendix 3, Revision 2, dated October 21, 2009;

(iv) Appendix 4, Revision 1, dated October 20, 2009; and

(v) Appendix 5, Revision 3, dated February 15, 2010.

(3) For Model MYSTERE-FALCON 900 airplanes: Dassault Mandatory Service Bulletin F900-388, Revision 3, dated October 19, 2011, which includes the following appendices:

(i) Appendix 1, Revision 2, dated February 15, 2010;

(ii) Appendix 2, Revision 3, dated February 15, 2009;

(iii) Appendix 3, Revision 2, dated October 21, 2009;

(iv) Appendix 4, Revision 1, dated October 20, 2009; and

(v) Appendix 5, Revision 4, dated October 19, 2011.

(4) For Model FALCON 2000 airplanes: Dassault Mandatory Service Bulletin F2000-358, Revision 3, dated March 10, 2010, which includes the following appendices:

(i) Appendix 1, Revision 2, dated February 15, 2010;

(ii) Appendix 2, Revision 3, dated February 15, 2009;

(iii) Appendix 3, Revision 2, dated October 21, 2009;

(iv) Appendix 4, Revision 1, dated October 20, 2009; and

(v) Appendix 5, Revision 3, dated February 15, 2010.

(5) For Model FALCON 2000EX airplanes: Dassault Mandatory Service Bulletin F2000EX-171, Revision 3, dated March 10, 2010, which includes the following appendices:

(i) Appendix 1, Revision 2, dated February 15, 2010;

(ii) Appendix 2, Revision 3, dated February 15, 2009;

(iii) Appendix 3, Revision 2, dated October 21, 2009;

(iv) Appendix 4, Revision 1, dated October 20, 2009; and

(v) Appendix 5, Revision 3, dated February 15, 2010.

(h) Credit for Previous Actions

This paragraph provides credit for the modifications required by paragraph (g) of this AD, if those actions were performed before the effective date of this AD using the service information (which is not incorporated by reference in this AD) specified in paragraphs (h)(1) through (h)(5) of this AD, as applicable.

(1) For Model MYSTERE-FALCON 50 airplanes:

(i) Dassault Mandatory Service Bulletin F50-496, dated October 30, 2009, which includes the following appendices:

(A) Appendix 1, Revision 1, dated October 21, 2009;

(B) Appendix 2, Revision 2, dated October 21, 2009;

(C) Appendix 3, Revision 2, dated October 21, 2009;

(D) Appendix 4, Revision 1, dated October 20, 2009; and

(E) Appendix 5, Revision 2, dated October 22, 2009.

(ii) Dassault Mandatory Service Bulletin F50-496, Revision 1, dated February 15, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(2) For Model FALCON 900EX airplanes:

(i) Dassault Mandatory Service Bulletin F900EX-329, dated September 25, 2009, which includes the following appendices:

(A) Appendix 1, dated July 6, 2009;

(B) Appendix 2, dated July 6, 2009;

(C) Appendix 3, Revision 1, dated September 25, 2009;

(D) Appendix 4, dated July 6, 2009; and

(E) Appendix 5, Revision 1, dated September 24, 2009.

(ii) Dassault Mandatory Service Bulletin F900EX-329, Revision 1, dated October 30, 2009, which includes the following appendices:

(A) Appendix 1, Revision 1, dated October 21, 2009;

(B) Appendix 2, Revision 2, dated October 21, 2009;

(C) Appendix 3, Revision 2, dated October 21, 2009;

(D) Appendix 4, Revision 1, dated October 20, 2009; and

(E) Appendix 5, Revision 2, dated October 22, 2009.

(iii) Dassault Mandatory Service Bulletin F900EX-329, Revision 2, dated February 15, 2010, which includes the following appendices:

(A) Appendix 1, Revision 2, dated February 15, 201;

(B) Appendix 2, Revision 3, dated February 15, 2009;

(C) Appendix 3, Revision 2, dated October 21, 2009;

(D) Appendix 4, Revision 1, dated October 20, 2009; and

(E) Appendix 5, Revision 3, dated February 15, 2010.

(3) For Model MYSTERE-FALCON 900 airplanes:

(i) Dassault Mandatory Service Bulletin F900-388, dated October 30, 2009, which includes the following appendices:

(A) Appendix 1, Revision 1, dated October 21, 2009;

(B) Appendix 2, Revision 2, dated October 21, 2009;

(C) Appendix 3, Revision 2, dated October 21, 2009;

(D) Appendix 4, Revision 1, dated October 20, 2009; and

(E) Appendix 5, Revision 2, dated October 22, 2009.

(ii) Dassault Mandatory Service Bulletin F900-388, Revision 1, dated February 15, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(iii) Dassault Mandatory Service Bulletin F900-388, Revision 2, dated March 10, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(4) For Model FALCON 2000 airplanes:

(i) Dassault Mandatory Service Bulletin F2000-358, dated September 25, 2009, which includes the following appendices:

(A) Appendix 1, dated July 6, 2009;

(B) Appendix 2, dated July 6, 2009;

(C) Appendix 3, Revision 1, dated September 25, 2009;

(D) Appendix 4, dated July 6, 2009; and

(E) Appendix 5, Revision 1, dated September 24, 2009.

(ii) Dassault Mandatory Service Bulletin F2000-358, Revision 1, dated October 30, 2009, which includes the following appendices:

(A) Appendix 1, Revision 1, dated October 21, 2009;

(B) Appendix 2, Revision 2, dated October 21, 2009;

(C) Appendix 3, Revision 2, dated October 21, 2009;

(D) Appendix 4, Revision 1, dated October 20, 2009; and

(E) Appendix 5, Revision 2, dated October 22, 2009.

(iii) Dassault Mandatory Service Bulletin F2000-358, Revision 2, dated February 15, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(5) For Model FALCON 2000EX airplanes:

(i) Dassault Mandatory Service Bulletin F2000EX-171, dated July 6, 2009, which includes the following appendices:

(A) Appendix 1, dated July 6, 2009;

(B) Appendix 2, dated July 6, 2009;

(C) Appendix 3, dated July 6, 2009;

(D) Appendix 4, dated July 6, 2009; and

(E) Appendix 5, dated July 6, 2009.

(ii) Dassault Mandatory Service Bulletin F2000EX-171, Revision 1, dated October 22, 2009, which includes the following appendices:

(A) Appendix 1, Revision 1, dated October 21, 2009;

(B) Appendix 2, Revision 2, dated October 21, 2009;

(C) Appendix 3, Revision 2, dated October 21, 2009;

(D) Appendix 4, Revision 1, dated October 20, 2009; and

(E) Appendix 5, Revision 2, dated October 22, 2009.

(iii) Dassault Mandatory Service Bulletin F2000EX-171, Revision 2, dated February 15, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(i) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to Mandatory Continuing Airworthiness Information (MCAI) European Aviation Safety Agency Airworthiness Directive 2011-0193, dated October 5, 2011, for related information. This MCAI may be viewed on the Internet at http://ad.easa.europa.eu/blob/easa_ad_2011_0193.pdf.

(2) Service information identified in this AD that is not incorporated by referenced may be obtained at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Dassault Mandatory Service Bulletin F50-496, Revision 2, dated March 10, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(ii) Dassault Mandatory Service Bulletin F900EX-329, Revision 3, dated March 10, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(iii) Dassault Mandatory Service Bulletin F900-388, Revision 3, dated October 19, 2011, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 4, dated October 19, 2011.

(iv) Dassault Mandatory Service Bulletin F2000-358, Revision 3, dated March 10, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(v) Dassault Mandatory Service Bulletin F2000EX-171, Revision 3, dated March 10, 2010, which includes the following appendices:

(A) Appendix 1, Revision 2, dated February 15, 2010;

(B) Appendix 2, Revision 3, dated February 15, 2009;

(C) Appendix 3, Revision 2, dated October 21, 2009;

(D) Appendix 4, Revision 1, dated October 20, 2009; and

(E) Appendix 5, Revision 3, dated February 15, 2010.

(3) For service information identified in this AD, contact Dassault Falcon Jet, P.O. Box 2000, South Hackensack, New Jersey 07606; telephone 201-440-6700; Internet http://www.dassaultfalcon.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 23, 2013.
Jeffrey E. Duven,
Acting Manager, Transport Airplane Directorate, Aircraft Certification Service.

[FR Doc. 2013-15141 Filed 7-9-13; 8:45 am]

BILLING CODE 4910-13-P